DEPARTMENT OF ENERGY

Federal Energy Regulatory Commission

[Docket No. RP02-335-000]

ANR Pipeline Company; Notice of Technical Conference

June 26, 2002.

In the Commission's order issued on May 31, 2002,¹ the Commission directed that a technical conference be held to address issues raised by the filing.

¹ ANR Pipeline Company, 99 FERC ¶ 61,232 (2002).

Take notice that the technical conference will be held on Thursday, July 18, 2002, at 10 a.m., in a room to be designated at the offices of the Federal Energy Regulatory Commission, 888 First Street, NE., Washington, DC 20426.

All interested parties and Staff are permitted to attend.

Linwood A. Watson, Jr.,
Deputy Secretary.

[FR Doc. 02-16622 Filed 7-1-02; 8:45 am]

BILLING CODE 6717-01-P